NATIONAL ENDOWMENT FOR THE HUMANITIES

Notice of Guidelines for Ensuring and Maximizing the Quality, Objectivity, Utility, and Integrity of Information Disseminated by the National Endowment for the Humanities

September 26, 2002.

AGENCY: National Endowment for the Humanities.

ACTION: Notice of availability of final guidelines.

SUMMARY: The National Endowment for the Humanities (NEH) announces that its Guidelines for Ensuring and Maximizing the Quality, Objectivity, Utility, and Integrity of Information Disseminated by the National Endowment for the Humanities have been posted on the NEH Web site, http://www.neh.gov.

FOR FURTHER INFORMATION CONTACT: Daniel C. Schneider, General Counsel, telephone 202-606-8322, gencounsel@neh.gov.Hearing-impaired individuals may contact the NEH by TDD/TTY at 202-606-8338.

SUPPLEMENTARY INFORMATION: Section 515 of the Treasury and General Government Appropriations Act for FY 2001 (Pub. L. 106-554) requires each Federal agency to publish guidelines for ensuring and maximizing the quality, objectivity, utility, and integrity of the information it disseminates. Agency guidelines must be based on government-wide guidelines issued by the Office of Management and Budget (OMB). In compliance with this statutory requirement and OMB instructions, the NEH has posted its Information Quality Guidelines on the NEH's Web site (http://www.neh.gov).

The Guidelines describe the agency's procedures for ensuring the quality of information that it disseminates and the procedures by which an affected person may obtain correction of information disseminated by the NEH that does not comply with the Guidelines. Persons who cannot access the Guidelines through the Internet may request a paper or electronic copy by contacting the Office of the General Counsel.

Effective Date: October 1, 2002.

Dated: September 26, 2002.
For the National Endowment for the Humanities.
Daniel C. Schneider,
General Counsel.

[FR Doc. 02-25068 Filed 10-1-02; 8:45 am]

BILLING CODE 7536-01-P